ENVIRONMENTAL PROTECTION AGENCY

[EPA-HQ-OPPT-2014-0543; FRL-9916-45]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from July 1, 2014 to August 22, 2014.

DATES: Comments identified by the specific PMN number or TME number, must be received on or before October 20, 2014.

ADDRESSES: Submit your comments, identified by docket identification (ID) number EPA-HQ-OPPT-2014-0543, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: For technical information contact: Bernice Mudd, Information Division (7407M), Office of Pollution Prevention and Toxics, Environmental Protection Agency, 1200 Pennsylvania Ave. NW., Washington, DC 20460-0001; telephone number: (202) 564-8951; email address: Mudd.Bernice@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the agency taking?

This document provides receipt and status reports, which cover the period from July 1, 2014 to August 22, 2014, and consists of the PMNs pending and/or expired, and the NOCs to manufacture a new chemical that the Agency has received under TSCA section 5 during this time period.

III. What is the agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—115 PMNs Received From 7/1/14 to 8/22/14
Case No. | Received date | Projected notice end date | Manufacturer importer | Use | Chemical
P-14-0660 | 7/1/2014 | 9/29/2014 | CBI | (S) General Architectural And Industrial Coatings | (G) Polyurethane Aqueous Dispersion.
P-14-0660 | 7/1/2014 | 9/29/2014 | CBI | (S) Floor Coating | (G) Polyurethane Aqueous Dispersion.
P-14-0661 | 7/1/2014 | 9/29/2014 | CBI | (G) Used in Ink Formulations | (G) Water Dispersible Polyester and Polycarbonate Polyol Based Polyurethane Urea Resin.
P-14-0662 | 7/2/2014 | 9/30/2014 | Colonial Chemical, Inc | (S) Intermediate | (S) D-Glucopyranose, Oligomeric C10-16-Alkyl Glycosides, Polymers With Epichlorohydrin And Oligomeric Dglucopyranose Decyl Octyl Glycosides.
P-14-0663 | 7/3/2014 | 10/1/2014 | CBI | (G) Component in Drilling Fluids | (G) Polyglycerol Fatty Acid Esters.
P-14-0664 | 7/3/2014 | 10/1/2014 | CBI | (G) Coating Additive (Open, Non-Dispersive Use) | (G) 2-Propenoic Acid, Telomer with Alkanediol Mono-2-Propenoate and Sodium Phosphinate (1:1), Ammonium Salt.
P-14-0665 | 7/7/2014 | 10/5/2014 | CBI | (G) Chemical Reactant | (G) Aromatic Carboxylic Acid.
P-14-0666 | 7/7/2014 | 10/5/2014 | CBI | (G) Morphology Modifier For Plastics | (G) Aromatic Carboxylic Acid Salt.
P-14-0667 | 7/7/2014 | 10/5/2014 | CBI | (G) Chemical Reactant | (G) Aromatic Carboxylic Acid.
P-14-0668 | 7/7/2014 | 10/5/2014 | CBI | (G) Morphology Modifier For Plastics | (G) Aromatic Carboxylic Acid Salt.
P-14-0669 | 7/7/2014 | 10/5/2014 | CBI | (G) Chelating/Complexing Agent | (G) Polyamine Carboxyalkyl Derivatives, Sodium Salts.
P-14-0670 | 7/7/2014 | 10/5/2014 | CBI | (G) Adhesive Component | (G) MDI-Based Urethane Polymer.
P-14-0671 | 7/7/2014 | 10/5/2014 | CBI | (G) Adhesive Component | (G) MDI-Based Urethane Polymer.
P-14-0672 | 7/8/2014 | 10/6/2014 | CBI | (G) Dyestuff | (G) Substituted Naphthol Derivative.
P-14-0675 | 7/8/2014 | 10/6/2014 | Eastman Chemical Company, Inc | (S) Plasticizer | (S) 1,4-Benzenedicarboxylic Acid, 1,4-Bis(2-Methylpropyl) Ester.
P-14-0676 | 7/8/2014 | 10/6/2014 | Eastman Chemical Company, Inc | (S) Plasticizer | (S) 1,4-Benzenedicarboxylic Acid, 1-Butyl 4-(2-Methylpropyl) Ester.
P-14-0677 | 7/8/2014 | 10/6/2014 | CBI | (G) Radiation cured inks | (G) Polyester Acrylate.
P-14-0678 | 7/9/2014 | 10/7/2014 | CBI | (G) The Material will be used as Polymer Modifier in Various Polymers | (G) Mixed Ester Reacted Ester.
P-14-0679 | 7/8/2014 | 10/6/2014 | CBI | (G) Additive, Open, Non-Dispersive Use | (G) 2-(Dimethylamino)Ethyl Methyl-2-Propanoate, Polymer with Alkyl-Substituted Methyl-2-Propanoate and Aryl-Substituted Methyl-2-Propanoate, Salt with Phosphorylated Caprolactone, Alkyloxoheteromonocycle and Polyalkylene Polyol Alkyl Ether.
P-14-0680 | 7/9/2014 | 10/7/2014 | CBI | (G) Low Foam Additive For Dish Detergents | (G) Sorbitan Ester.
P-14-0681 | 7/10/2014 | 10/8/2014 | Miwon North America, Inc | (S) Resings For Industrial Coating | (G) Urethane Acrylate.
P-14-0682 | 7/10/2014 | 10/8/2014 | CBI | (S) Millable Polyurethane | (G) Polyurethane.
P-14-0683 | 7/10/2014 | 10/8/2014 | Qualice, LLC | (S) Extreme Pressure Additive In Lubricants | (S) Tetradecane, Chloro Derivatives.
P-14-0683 | 7/10/2014 | 10/8/2014 | Qualice, LLC | (S) Flame Retardant in Rubber Products | (S) Tetradecane, Chloro Derivatives.
P-14-0684 | 7/10/2014 | 10/8/2014 | Qualice, LLC | (S) Extreme Pressure Additive In Lubricants | (S) Alkanes, C14-16, Chloro.
P-14-0684 | 7/10/2014 | 10/8/2014 | Qualice, LLC | (S) Flame Retardant In Rubber Products | (S) Alkanes, C14-16, Chloro.
P-14-0685 | 7/15/2014 | 10/13/2014 | Alberdingk Boley Inc | (S) For Wood Coatings | (G) Alkenoic Acid, Polymer with Alkyll 2-Alkyll-2-Alkenoate, Alkyll 2-Alkenoate, N-(1,1-Dialkyll-3-Oxoalkyl)-2-Alkenamide And Alkyl 2-Alkyll-2-Alkenenoate.
P-14-0686 | 7/15/2014 | 10/13/2014 | Alberdingk Boley Inc | (S) For Wood Coatings | (G) Alkenoic Acid, Polymer With Alkyl 2-Alkenoate, N-(1,1-Dialkyl-3-Oxoalkyl)-2-Alkenamide And Alkyl 2-Alkyl-2-Alkenoate.
P-14-0687 | 7/15/2014 | 10/13/2014 | Alberdingk Boley Inc | (S) For Wood Coatings | (G) Alkenoic Acid, Polymer With Alkyl-2-Alkyl-2-Alkenoate, Alkyl 2-Alkenoate, N-(1,1-Dialkyl-3-Oxoalkyl)-2-Alkenamide, Alkyl 2-Alkyl-2-Alkenoate And 1,1′-(1-Alkyl-11,3-Alkanediyl)Bis(2-Alkyl-2-Alkenoate).
P-14-0688 | 7/15/2014 | 10/13/2014 | CBI | (S) Surfactant for Use n Asphalt Emulsions. | (G) Fatty Acid Amide Hydrochloride.
P-14-0689 | 7/15/2014 | 10/13/2014 | CBI | (S) Surfactant for Use in Asphalt Emulsions | (G) Fatty Acid Amide Hydrochloride.
P-14-0690 | 7/15/2014 | 10/13/2014 | CBI | (S) Surfactant for Use in Asphalt Emulsions | (G) Fatty Acid Amide Hydrochloride.
P-14-0691 | 7/15/2014 | 10/13/2014 | CBI | (S) Surfactant for Use in Asphalt Emulsions | (G) Fatty Acid Amide Hydrochloride.
P-14-0697 | 7/17/2014 | 10/15/2014 | CBI | (S) Electrolyte in Dye-Sensitized Solar Cell (Dssc) | (G) Alkyl Substituted Heteroaromatic.
P-14-0698 | 7/17/2014 | 10/15/2014 | CBI | (G) Component In A Blended Resin | (G) Acid Compounds with Bisphenol A-Epichlorohydrin-Polypropylene Glycol Diamine-Polypropylene Glycol Diglycidyl Ether Polymer-Secondary Amine Reaction Products.
P-14-0699 | 7/18/2014 | 10/16/2014 | CBI | (S) Electrolyte In Dye-Sensitized Solar Cell | (G) Alkyl Substituted Heteroaromatic Salt.
P-14-0701 | 7/21/2014 | 10/19/2014 | CBI | (G) Protective Coating | (G) Functionalized Fatty Acid, Polymer with Maleic Anhydride, Me Methacrylate, 4-Oxopentanoic Acid and Styrene, Compound with Triethylamine.
P-14-0702 | 7/21/2014 | 10/19/2014 | Shin Etsu Silicones Of America | (S) Anti-Smudge Coating Agent for Optical Glass | (G) Perfluoropolyether Compound.
P-14-0702 | 7/21/2014 | 10/19/2014 | Shin Etsu Silicones Of America | (S) Anti-Smudge Coating Agent for Cover Glass | (G) Perfluoropolyether Compound.
P-14-0702 | 7/21/2014 | 10/19/2014 | Shin Etsu Silicones Of America | (S) Anti-Smudge Coating Agent for Anti-Reflection Coating | (G) Perfluoropolyether Compound.
P-14-0703 | 7/21/2014 | 10/19/2014 | CBI | (S) Toughener To Prevent Crack Propagation In Adhesives | (G) Modified Epoxy Resin Polymer.
P-14-0708 | 7/22/2014 | 10/20/2014 | CBI | (S) Crosslinking Agent; Intermediate | (G) Epoxidized sucrose polyester resin.
P-14-0711 | 7/22/2014 | 10/20/2014 | CBI | (S) Reactive Polymer for use in Adhesive Applications | (G) Polyurethane.
P-14-0712 | 7/21/2014 | 10/19/2014 | CBI | (G) Petroleum Blend Stock | (G) Plastics, Wastes, Pyrolyzed, Bulk Pyrolysate.
P-14-0712 | 7/21/2014 | 10/19/2014 | CBI | (G) Component of Grease or Wax Products | (G) Plastics, Wastes, Pyrolyzed, Bulk Pyrolysate.
P-14-0712 | 7/21/2014 | 10/19/2014 | CBI | (G) Fuel Blend Stock | (G) Plastics, Wastes, Pyrolyzed, Bulk Pyrolysate.
P-14-0713 | 7/21/2014 | 10/19/2014 | CBI | (G) Fuel Blend Stock | (G) Plastics, Wastes, Pyrolyzed, Light Distillate.
P-14-0714 | 7/21/2014 | 10/19/2014 | CBI | (G) Fuel Blend Stock | (G) Plastics, Wastes, Pyrolyzed, Middle Distillate.
P-14-0715 | 7/21/2014 | 10/19/2014 | CBI | (G) Fuel Blend Stock | (G) Plastics, Wastes, Pyrolyzed, Heavy Distillate.
P-14-0716 | 7/22/2014 | 10/20/2014 | Allnex USA Inc | (G) Coating Resin | (G) Fatty Acids, Dimers, Polymers with Alkanoic Acid, Alkylene Oxides, Substituted Alkanediol.
P-14-0717 | 7/23/2014 | 10/21/2014 | Allnex USA Inc | (G) Coating Resin Additive | (G) Substituted Alkanoic Acid Ester, Polymer with Alkanoic Acid Esters, Substituted Alkanenitrile-Initiated.
P-14-0718 | 7/23/2014 | 10/21/2014 | CBI | (G) Component For Hydrophobic Polymer | (G) Polyol.
P-14-0724 | 7/24/2014 | 10/22/2014 | Colonial Chemical, Inc | (S) Surfactant For Carpet Cleaning; Surfactant For Antifog; Wetting Agent For Fiber Treatment | (S) D-Glucopyranose, Oligomeric, Decyl Octyl Glycosides, Polymers with Epichlorohydrin, 3-(Dodecyldimethylammonio)-2-Hydroxypropyl Ethers, Chlorides.
P-14-0725 | 7/24/2014 | 10/22/2014 | Colonial Chemical, Inc | (S) Surfactant For Carpet Cleaning; Surfactant For Antifog; Wetting Agent For Fiber Treatment | (S) D-Glucopyranose, Oligomeric, C10-16-Alkyl Glycosides, Polymers with Epichlorohydrin, 3-(Dodecyldimethylammonio)-2-Hyrdoxypropyl Ethers, Chlorides.
P-14-0726 | 7/24/2014 | 10/22/2014 | Colonial Chemical, Inc | (S) Surfactant for Carpet Cleaning; Surfactant For Antifog; Wetting Agent For Fiber Treatment | (S) D-Glucopyranose, Oligomeric, Decyl Octyl Glycosides, Polymers with Epichlorhydrin, (3-Dimethyloctadecylammonio)-2-Hydroxypropyl Ethers, Chlorides.
P-14-0727 | 7/24/2014 | 10/22/2014 | Colonial Chemical, Inc | (S) Surfactant For Carpet Cleaning; Surfactant for Antifog; Wetting Agent For Fiber Treatment | (S) D-Glucopyranose, Oligomeric C10-16-Alkyl Glycosides, Polymers with Epichlorohydrin, 3-(Dimethyloctadecylammonio)-2-Hydroxypropyl Ethers Chlorides.
P-14-0728 | 7/24/2014 | 10/22/2014 | Colonial Chemical, Inc | (S) Surfactant For Carpet Cleaning; Surfactant For Antifog; Wetting Agent For Fiber Treatment | (S) D-Glucopyranose, Oligomeric C10-16-Alkyl Glycosides, Polymers with Epichlorohydrin And Oligomeric D-Glucopyranose Decyl Octyl Glycosides, 2-Hydroxy-3-(Trimethylammonio)Propyl Ethers Chlorides.
P-14-0729 | 7/24/2014 | 10/22/2014 | CBI | (G) Modifier for Electronic Materials | (G) Carboxylated Nitrile Rubber.
P-14-0730 | 7/24/2014 | 10/22/2014 | CBI | (G) Corrosion Inhibitor | (G) Carboxylated Nitrile Rubber.
P-14-0731 | 7/24/2014 | 10/22/2014 | CBI | (G) Corrosion Inhibitor | (S) Hexanedioic Acid, Polymer with 2,2′-(Methylimino)Bis[Ethanol], Di-(9z)-9-Octadecenoate (Ester), Compound, With Chloromethane.
P-14-0732 | 7/25/2014 | 10/23/2014 | CBI | (G) Rape Oil, Reaction Products With Amines | (G) Rape Oil, Reaction Products with Alkylamine.
P-14-0733 | 7/25/2014 | 10/23/2014 | CBI | (G) Component Of Inkjet Printer Ink | (G) Acrylic Modified Polyurethane Resin.
P-14-0734 | 7/25/2014 | 10/23/2014 | CBI | (G) Contained Use In Energy Production | (G) Organic Phosphonate Salt.
P-14-0735 | 7/25/2014 | 10/23/2014 | CBI | (G) Adhesive For Open Non-Descriptive Use | (G) Ultra Violet Curable Urethane Acrylate.
P-14-0737 | 7/25/2014 | 10/23/2014 | CBI | (G) Polyurethane Coating | (G) Polyalkylene Ether Polyurethane Prepolymer.
P-14-0738 | 7/25/2014 | 10/23/2014 | CBI | (G) Polyurethane Coating | (G) Polyalkylene Ether Alkyl Phosphate Polyurethane Prepolymer.
P-14-0739 | 7/25/2014 | 10/23/2014 | Colonial Chemical, Inc | (S) Intermediate | (S) D-Glucopyranose, Oligomeric, C10-16-Alkyl Glycosides, Polymers with 1,3-Dichloro-2-Propanol.
P-14-0740 | 7/25/2014 | 10/23/2014 | Colonial Chemical, Inc | (S) Intermediate | (S) D-Glucopyranose, Oligomeric, C10-16-Alkyl Glycosides, Polymer with 1,3-Dichloro-2-Propanol.
P-14-0741 | 7/25/2014 | 10/23/2014 | CBI | (G) Additive For Release Coatings | (G) Siloxanes And Silicones, Di-Me, Me 3-[2-[(1-Oxo-2-Alken-1-Yl)Oxy)]Alkoxy]Propyl, [[Dimethyl[3-[2- [(1-Oxo-2-Alken-1-Yl)Oxy]Alkoxy]Propyl]Silyl]Oxy]-Terminated, Polymers with Chlorotrimethylsilaneiso- Pr Alc. -Sodium Silicate Reaction Products.
P-14-0742 | 7/28/2014 | 10/26/2014 | CBI | (G) Component In Industrial Electrocoat | (G) Isocyanic Acid, Polymethylenepolyphenylene Ester, Polymer with 1,2-Propanediol, 2-(2-Butoxyethoxy)Ethanol- And Hydroxyl Amide.
P-14-0743 | 7/28/2014 | 10/26/2014 | CBI | (G) Component In Industrial Electrocoat | (G) Isocyanic Acid, Polymethylenepolyphenylene Ester, Polymer with 1,2-Propanediol, 2-Butoxyethanol- And Hydroxyl Amide.
P-14-0744 | 7/28/2014 | 10/26/2014 | CBI | (G) Component In Industrial Electrocoat | (G) Isocyanic Acid, Polymethylenepolyphenylene Ester, Polymer with 1,2-Propanediol, Hydroxyl Amide.
P-14-0745 | 7/28/2014 | 10/26/2014 | CBI | (G) Component In Industrial Electrocoat | (G) Isocyanic Acid, Polymethylenepolyphenylene Ester, 2-(2-Butoxyethoxy)Ethanol- and Hydroxyl Amide.
P-14-0746 | 7/28/2014 | 10/26/2014 | CBI | (G) Component In Industrial Electrocoat | (G) Isocyanic Acid, Polymethylenepolyphenylene Ester, 2-Butoxyethanol- and Hydroxyl Amide.
P-14-0747 | 7/28/2014 | 10/26/2014 | CBI | (G) Component In Industrial Electrocoat | (G) Isocyanic Acid, Polymethylenepolyphenylene Ester, Hydroxyl Amide and Methanol-Blocked.
P-14-0748 | 7/28/2014 | 10/26/2014 | CBI | (S) Dispersing Agent For Paints, Coatings, And Colorants.; Dispersing Agent For Inks | (G) Alkylpolyglycol Ether Phosphate Ester.
P-14-0750 | 7/30/2014 | 10/28/2014 | CBI | (G) Component Of Electrocoat | (G) Formic Acid Salts, Compounds with Epoxy-Cycloalkylamine-Polymer-Hydrolyzed Amino-1,2-Alkanediamine-(Alkylamino)Alcohol Reaction Products.
P-14-0751 | 7/30/2014 | 10/28/2014 | CBI | (G) Component Of Electrocoat | (G) Acetic Acid Salts, Compounds with Epoxy-Cycloalkylamine-Polymer-Hydrolyzed Amino-1,2-Alkanediamine-(Alkylamino)Alcohol Reaction Products.
P-14-0752 | 7/30/2014 | 10/28/2014 | CBI | (G) Component Of Electrocoat | (G) Formic Acid Salts, Compounds with [(Aminoalkyl)Imino]Bis[Alcohol]-Epoxy-Cycloalkylamine-Polymer-(Alkylamino)Ethanol Reaction Products.
P-14-0753 | 7/30/2014 | 10/28/2014 | CBI | (G) Component Of Electrocoat | (G) Acetic Acid Salts, Compounds with [(Aminoalkyl)Imino]Bis[Alcohol]-Epoxy-Cycloalkylamine-Polymer-(Alkylamino)Ethanol Reaction Products.
P-14-0754 | 7/30/2014 | 10/28/2014 | CBI | (G) Component Of Electrocoat | (G) Formic Acid Salts, Compounds with [(Aminoalkyl)Imino]Bis[Alcohol]-Epoxy-Cycloalkylamine-Polymer-Dialcoholamine Reaction Products.
P-14-0755 | 7/30/2014 | 10/28/2014 | CBI | (G) Component Of Electrocoat | (G) Acetic Acid Salts, Compounds with [(Aminoalkyl)Imino]Bis[Alcohol]-Epoxy-Cycloalkylamine-Polymer-Dialcoholamine Reaction Products.
P-14-0756 | 7/30/2014 | 10/28/2014 | CBI | (G) Material for highly dispersive use in consumer products; Component of a consumer product | (G) Substituted Carboxamide.
P-14-0757 | 7/30/2014 | 10/28/2014 | CBI | (G) Industrial Adhesive | (G) Methoxylated-Polysilicate.
P-14-0758 | 7/31/2014 | 10/29/2014 | CBI | (G) Urethane Foam | (G) Polyamine-Based Polyol.
P-14-0759 | 7/31/2014 | 10/29/2014 | CBI | (G) As an on-site coolant and off-site refinery and fuel blending feed-stock; contained uses | (G) Pyrolysis Oil Product.
P-14-0760 | 8/4/2014 | 11/2/2014 | CBI | (G) Component Of Inkjet Ink | (G) Styrene-Methacrylate Copolymer.
P-14-0762 | 8/4/2014 | 11/2/2014 | CBI | (G) Opacifier | (G) Ethylene Glycol Fatty Acid Esters.
P-14-0763 | 8/5/2014 | 11/3/2014 | Swan Chemical Inc | (G) Electronic components | (S) Graphene.
P-14-0765 | 8/5/2014 | 11/3/2014 | DIC International (USA) LLC | (G) Surfactant For Ultra Violet Curable Materials | (G) Fluorinated Acrylate Polymer.
P-14-0766 | 8/1/2014 | 10/30/2014 | CBI | (G) Additive to improve texture of pigments | (G) Aluminum Substituted Aminodicarboxylate.
P-14-0767 | 8/6/2014 | 11/4/2014 | Miwon North America, Inc | (S) Resins For Industrial Coating | (G) Polyester Acrylate.
P-14-0768 | 8/6/2014 | 11/4/2014 | DIC International (USA) LLC | (G) Exterior Coating Polymer | (G) Fluoro Olefine Copolymer.
P-14-0769 | 8/6/2014 | 11/4/2014 | DIC International (USA) LLC | (G) Exterior Coatings | (G) Silicone Acrylic/Methacrylic Polymer.
P-14-0770 | 8/7/2014 | 11/5/2014 | CBI | (G) Electronic Devices | (G) Arylamine Polymer.
P-14-0773 | 8/8/2014 | 11/6/2014 | Kraft Chemical Company | (S) Preservative | (S) Methylchloroisothiazolinone Krafton Cg.
P-14-0774 | 8/11/2014 | 11/9/2014 | CBI | (G) Additive In Coatings And Inks | (G) Fatty Acids, Long Chain Alkyl and Alkenyl, Propoxylated.
P-14-0775 | 8/12/2014 | 11/10/2014 | Huntsman International LLC | (S) Flotation Of Mineral Ores In Mining Operations. | (G) Alcohol Ethoxylate.
P-14-0777 | 8/12/2014 | 11/10/2014 | Shin Etsu Silicones Of America | (S) Anti-smudge coating agent for cover glass; anti-smudge coating agent for anti-reflection coating; anti-smudge coating agent for optical glass | (G) Perfluoropolyether compound.
P-14-0778 | 8/13/2014 | 11/11/2014 | CBI | (G) Coatings | (G) Polyethylene Glycol Alkyl Ethers.
P-14-0779 | 8/13/2014 | 11/11/2014 | CBI | (G) Home Care Additive | (S) 2-Propen-1-Aminium, N,N-Dimethyl-N-2-Propen-1-Yl-, Chloride (1:1), Polymer With 2-Propenoic Acid, Sodium Salt, Peroxydisulfuric Acid ([Ho)S(O)2]2o2) Ammonium Salt (1:2)-Initiated.
P-14-0780 | 8/13/2014 | 11/11/2014 | Fritz Industries, Inc | (S) Scale Inhibitor To Prevent Oil Line Piping From Accumulating Scale Deposits | (G) Neutralized Phosphonic Acid Salt.
P-14-0781 | 8/13/2014 | 11/11/2014 | Spectra Colors Corporation | (G) Component Of Industrial Inks And Dyes | (S) Methanaminium, N-[4-[[4-(Dimethylamino)Phenyl] Phenylmethylene]-2,5-Cyclohexadien-1-Ylidene]- N- Methyl-, Ethanedioate, Ethanedioate (2:2:1).
P-14-0782 | 8/14/2014 | 11/12/2014 | CBI | (G) Additives For Plastic Welding | (G) Perylene Derivative.
P-14-0787 | 8/14/2014 | 11/12/2014 | Shepherd Chemical | (G) Polymer Additive | (G) Complex of Carboxylic Acids And Polyamino Alcohols.
P-14-0788 | 8/14/2014 | 11/12/2014 | Shepherd Chemical | (G) Polymer Additive | (G) Complex of Carboxylic Acids And Polyamino Alcohols.
P-14-0789 | 8/15/2014 | 11/13/2014 | CBI | (G) Laundry Detergent & Conditioning Additive | (S) 1-Propanaminium, N,N,N-Trimethyl-3-[(2-Methyl-1-Oxo-2-Propenyl)Amino]-, Chloride, Polymer with Methyl 2-Propenoate And 2-Propenoic Acid, Sodium Salt (9ci).
P-14-0790 | 8/15/2014 | 11/13/2014 | Allnex USA Inc | (G) Coating Resin | (G) Substituted Alkanoic Acid, Polymer with Disubstituted Alkane And Alkoxylated Glycerol Alkanoate, Substituted Alkanoate-Blocked.
P-14-0791 | 8/17/2014 | 11/15/2014 | CBI | (G) Plastics Additive | (G) Siloxanes And Silicones, Di-Me, 3(2-Hydroxyalkoxy) Alkyl Group-Terminated, Diesters with 2-Oxepanone Homopolymer.
P-14-0792 | 8/19/2014 | 11/17/2014 | CBI | (G) Agricultural additive | (G) 1,2,3-Propanetriol, Homopolymer, Alkanoate.
P-14-0793 | 8/19/2014 | 11/17/2014 | CBI | (G) Agricultural additive | (G) 1,2,3-Propanetriol, Homopolymer, Alkanoate.
P-14-0794 | 8/19/2014 | 11/17/2014 | CBI | (G) Agricultural additive | (G) 1,2,3-Propanetriol, Homopolymer, Alkanoate.
P-14-0798 | 8/18/2014 | 11/16/2014 | CBI | (G) Process Intermediate | (G) Chlorofluoroalkane.
P-14-0800 | 8/20/2014 | 11/18/2014 | Rhineland Specialties, Inc | (G) Open, Non-Dispersive Use | (G) Xanthylium, X-[2-(Alcoxycarbonyl)Phenyl]-Bis(Alkylamino)-Dimethyl-, X′-[X′′-[Hydroxy-X′′′-[[[[Hydroxy-X′′′′-(Phenyldiazenyl)-Sulfo-2-Naphthalenyl]Amino]Carbonyl]Amino]Sulfo-Naphthalenyl]Diazenyl] Benzoate, Sodium Salt.
P-14-0801 | 8/22/2014 | 11/20/2014 | CBI | (G) Transportation Undercoat | (G) Polymer of Vegetable Oils, Aliphatic Diols, Aliphatic Polyols, And Aromatic Acids.
P-14-0802 | 8/22/2014 | 11/20/2014 | H.B.Fuller Company | (G) Industrial Adhesive | (G) Polyester Polyol with Isopherone Diisocyanate, 2 Hydroxyethyl Methacrylate Blocked.
P-14-0803 | 8/22/2014 | 11/20/2014 | H.B.Fuller Company | (G) Industrial adhesive | (G) Polyether Polyol with Isopherone Diisocyanate, 2 Hydroxyethyl Methacrylate Blocked.
P-14-0804 | 8/22/2014 | 11/20/2014 | CBI | (S) The PMN substance is contained as a component in a node material in sealed batteries | (S) Phosphoric acid sodium titanium (4+) (3:1:2).
P-14-0805 | 8/22/2014 | 11/20/2014 | CBI | (G) Process Intermediate | (G) Chlorofluoroalkene.

In Table II. of this unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II—3 TMEs Received From 7/1/14 to 8/22/14
Case No. | Received date | Projected notice end date | Manufacturer/ importer | Use | Chemical
T-14-0003 | 3/7/2014 | 4/21/2014 | CBI | (G) Foam suppressant | (G) Substituted acid, electrophilic aromatic subsitituted products.
T-14-0007 | 7/3/2014 | 8/17/2014 | Clean Chemistry | (S) Destructive use in fuel production | (G) Organic peroxide.
T-14-0009 | 8/15/2014 | 9/29/2014 | CBI | (S) Slurry dispersion to be blended with coatings compound and applied to fabric | (G) Brominated compound.

In Table III. of this unit, EPA provides the following information (to the extent that such information is not claimed as CBI) on the NOCs received by EPA during this period: The EPA case number assigned to the NOC, the date the NOC was received by EPA, the projected end date for EPA's review of the NOC, and chemical identity.

Table III—57 NOCs Received From 7/1/14 to 8/22/14
Case No. | Received date | Commencement notice end date | Chemical
P-11-0526 | 7/1/2014 | 6/26/2014 | (G) Amphoteric Fluorinated Surfactant.
P-14-0074 | 7/3/2014 | 6/17/2014 | (G) Amino Acrylate Oligomer.
P-13-0394 | 7/3/2014 | 6/23/2014 | (S) Phenol, Polymer with 2,2,6-Trimethylbicyclo[3.1.1]Hept-2-Ene, Hydrogenated.
P-13-0927 | 7/3/2014 | 6/25/2014 | (G) N-(Dialkylamino)Alkyl-Dialkylphenyl-Tetrahydrodioxopyrrolopyrrolyl-Benzamide.
P-14-0435 | 7/3/2014 | 7/2/2014 | (G) Substituted Fatty Acids, Polymers With Alkanedioic Acid, Substituted Carbomonocycles, Alkanediol, Substituted Alkanoate, Compounds with Alkylamine.
P-14-0123 | 7/5/2014 | 6/24/2014 | (G) Reaction Product of Acrylate and Isocyanate.
P-14-0288 | 7/7/2014 | 6/11/2014 | (G) Polymer of Aliphatic Hydrocarbon Acrylic Acid Esters, Isocyanic Acid Derivative and Alkyl Perester with Alkyl Amine.
P-14-0466 | 7/7/2014 | 7/2/2014 | (S) Benzene, 1,4-Bis(1-Chloro-1-Methylethyl)-, Reaction Products With Polyisobutylene, Bis[4-[4-[(1-Oxo-2-Propen-1-Yl)Oxy]Butoxy]Phenyl]-Terminated.
P-10-0331 | 7/8/2014 | 4/15/2014 | (G) Amine Salt of Vegetable Oil, Polymer with Hydroxy Substituted Carboxylic Acid, Aliphatic Diisocyanate, Tetra Hydroxy Alkane And Polyol.
P-93-0850 | 7/9/2014 | 4/25/2014 | (G) Polyester Isocyanate Prepolymer.
P-13-0363 | 7/11/2014 | 6/24/2014 | (G) Alkane Acid, Polymer with Alkanediol, Hexanedioic Acid, 1,6-Hexanediol, .Alpha.-Hydro-.Omega.-Hydroxypoly[Oxy(Methyl-1,2-Ethanediyl)], 1,1′-Methylenebis[4-Isocyanatobenzene], 2-Oxepanone, and Poly(Oxyalkanediyl) Glyceryl Ether.
P-11-0324 | 7/11/2014 | 7/8/2014 | (G) Siloxanes And Silicones, Methyl Alkyl, Polyester Modified.
P-13-0909 | 7/11/2014 | 7/8/2014 | (G) Dicarboxylic Acid, Polymer with Alkanediol, Diester with Alkylalcohols.
P-14-0111 | 7/14/2014 | 7/1/2014 | (G) Polyurethane Polymer.
P-13-0436 | 7/14/2014 | 7/3/2014 | (S) Cyclohexaneacetic Acid, Methyl Ester.
P-13-0457 | 7/14/2014 | 7/3/2014 | (S) Cyclopentanecarboxylic Acid, 3-Oxo-2-Pentyl-, Methyl Ester.
P-14-0228 | 7/14/2014 | 7/3/2014 | (S) Multicomponent Mixture: 1-Cyclohexene-1-Butanol, -Methyl-Carrn 1359994-45-8 1-Butanol, 4-Cyclohexylidene-3-Methyl-Carrn 1491116-15-4.
P-14-0039 | 7/14/2014 | 7/11/2014 | (G) Quaternized Protein/Silicone Copolymer.
P-13-0384 | 7/15/2014 | 7/2/2014 | (G) Tetradecene and C16 Olefins and Paraffins.
P-14-0346 | 7/16/2014 | 6/25/2014 | (G) Polyester with Triazine.
P-14-0061 | 7/16/2014 | 7/8/2014 | (G) Dicarboxylic Acid, Polymer with Alkanediol, Diester with Alkylalcohols.
P-13-0364 | 7/17/2014 | 5/2/2014 | (G) Alkane Acid, Polymer with 1,6-Hexanediol, .Alpha.-Hydro-.Omega.-Hydroxypoly(Oxy-1,4-Butanediyl), 1,1′-Methylenebis[4-Isocyanatobenzene] and Poly(Oxy-Alkanediyl) Glyceryl Ether.
P-07-0307 | 7/17/2014 | 6/23/2014 | (S) Carbonic Acid, Dimethyl Ester, Polymer with 1,4-Butanediol, 1,6-Hexanediol, .Alpha.-Hydro-.Omega.-Hydroxypoly [Oxy(Methyl-1,2-Ethanediyl)] and 1,1′-Methylenebis [4-Isocyanatobenzene].
P-14-0449 | 7/17/2014 | 7/2/2014 | (G) Polyurethane Dispersion.
P-09-0312 | 7/21/2014 | 7/18/2014 | (G) Unsaturated Polyester Polymer.
P-14-0157 | 7/21/2014 | 7/18/2014 | (G) Substituted Carbomonocycles, Polymers with, Haloalkyl Substituted Heteromonocycle, Alkylaldehye-Substituted Carbomonocycle Polymer Glycidyl Ether and Polyalkylenene Glycol, Reaction Products with Alkyl Substituted Glycidyl Ether.
P-14-0286 | 7/23/2014 | 7/21/2014 | (G) Polyester-Type Polyurethane Hot Melt Resin.
P-14-0357 | 7/23/2014 | 7/21/2014 | (G) Alkanedioic Acids, Polymer with Substituted Propanediol, Alkanediols, Polyethylene Glycol and MDI.
P-14-0433 | 7/23/2014 | 7/21/2014 | (G) Isocyanat-Terminated Urethane Prepolymer.
P-12-0017 | 7/23/2014 | 7/23/2014 | (S) Phosphoric Acid, Iron(2+) Lithium Salt (1:1:1).
P-14-0434 | 7/24/2014 | 7/18/2014 | (S) 2-Propenoic Acid, 2-Methyl-, Butyl Ester, Polymer with Butyl 2-Propenoate, Ethenylbenzene, 4-Hydroxybutyl 2-Propenoate, 2-Hydroxyethyl 2-Methyl-2-Propenoate, Methyl 2-Methyl-2-Propenoate, 2-Propenoic Acid and Rel-(1r,2r,4r)-1,7,7-Trimethylbicyclo[2.2.1]Hept-2-Yl 2-Methyl-2-Propenoate.
P-14-0332 | 7/24/2014 | 7/21/2014 | (G) Polyester/Polyether-Type-Polyurethane Resin.
P-13-0633 | 7/25/2014 | 7/7/2014 | (G) Siloxanes and Silicones, Di-Alkyl, 3-(2-Substituted) Alkyl Group-Terminated, Polymers with 1,4-Alkanediol, Alkyl Diisocyanate, Di-Alkyl Carbonate, 2-Substituted Heteromonocycle, 1,6-Alkanediol, Hydrazine, 3-Substituted-2-(Substituted)-2-Alkylpropanoic Acid and Trialkyl Carbomonocycle Diisocyanate, Compounds with Trialkylamine.
P-13-0676 | 7/25/2014 | 7/7/2014 | (G) 1,3-Dioxolan-2-One, Polymer with 5-Substituted-1,3,3-Trialkylmonocarbocyclemethanamine, 1,4-Alkanediol, 1,2-Alkanediol, 1,1′-Alkylenebis[4-Substitutedmonocarbocycle] and 2-Alkyl-1,3-Alkanediol.
P-14-0095 | 7/25/2014 | 7/13/2014 | (G) Dihydroxyalkyl Alkanol, Polymer with Disubstituted Alkane, Ketoxime-Blocked.
P-14-0374 | 7/28/2014 | 7/18/2014 | (G) Sulfurized Fatty Acid Derivative.
P-13-0367 | 7/29/2014 | 7/11/2014 | (G) Carboxylated Phosphonated Allyl Sulphonate Polymer.
P-13-0255 | 7/30/2014 | 7/29/2014 | (S) Benzene, 1-(Decyloxy)-2-(1-Methylpropyl)-4-(Triphenylmethyl)-.
P-14-0296 | 8/1/2014 | 7/16/2014 | (S) Alkenes, C10-16 Alpha-, Mixed with (6e)-7, 11-Dimethyl-3-Methylene-1,6,10-Dodecatriene, Dimers and Trimers, Hydrogenated.
P-14-0297 | 8/1/2014 | 7/16/2014 | (S) Alkenes, C10-16 -, Mixed with (6e)-7,11-Dimethyl-3-Methylene-1,6,10-Dodecatriene, Dimers, Tetramers and Trimers, Hydrogenated.
P-14-0298 | 8/1/2014 | 7/16/2014 | (S) Alkenes, C10-16 -, Mixed with (6e)-7,11-Dimethyl-3-Methylene-1,6,10-Dodecatriene, Tetramers and Trimers, Hydrogenated.
P-14-0299 | 8/1/2014 | 7/16/2014 | (S) Alkenes, C10-16 -, Reaction Products with (6e)-7,11-Dimethyl-3-Methylene-1,6,10-Dodecatriene, Hydrogenated.
P-13-0154 | 8/5/2014 | 7/8/2014 | (G) Substituted Carbomonocycle Boron Salt.
P-13-0155 | 8/5/2014 | 7/8/2014 | (G) Substituted Carbomonocycle Derivative Metal.
P-14-0517 | 8/7/2014 | 7/27/2014 | (G) Aliphatic Multifunctional Urethane Acrylate.
P-10-0445 | 8/8/2014 | 8/6/2014 | (G) Solvent-Based Acrylic Resin.
P-14-0416 | 8/11/2014 | 7/29/2014 | (G) Polyurethane.
P-14-0130 | 8/12/2014 | 8/1/2014 | (S) Alkanes C15-19 Branched and Linear.
P-14-0131 | 8/12/2014 | 8/1/2014 | (S) Alkanes C18-24 Branched and Linear.
P-14-0137 | 8/12/2014 | 8/1/2014 | (S) Alkanes C14-16 Branched and Linear.
P-14-0538 | 8/12/2014 | 8/12/2014 | (S) 2-Propenoic Acid, 2-Methyl, C9-11-Branched Alkyl Esters, Polymers with Bu Methacrylate, 2-Butoxyethyl Methacrylate, C12-15-Branched and Linear Alkyl Methacrylate, Cetyl Methacrylate, Hydroxy-Terminated Hydrogenated Polybutadiene Monomethacrylate and Stearyl Methacrylate.
P-13-0810 | 8/13/2014 | 8/6/2014 | (G) Cycloalkylamino Oleylalkyl Alkylamide Acid Salt.
P-09-0099 | 8/14/2014 | 7/18/2014 | (G) Fluoroethylene Vinyl Copolymer.
P-14-0396 | 8/20/2014 | 8/19/2014 | (G) Polymer Of Vegetable Oil, Aliphatic Polyols, and Aromatic Acids.
P-14-0511 | 8/21/2014 | 8/19/2014 | (S) Lignin, Alkali,2- Hydroxypropylether.
P-01-0357 | 8/22/2014 | 8/5/2014 | (G) N,N' Substituted Aniline Sulfonic Acid, Compound with 2,2′,2″-Nitrilotris [Ethanol].
P-14-0539 | 8/22/2014 | 8/6/2014 | (G) Siloxanes and Silicones, Di-Me, 3-(2-Hydroxyethoxy)Alkyl Group-Terminated, Polymers with 1,4-Alkanediol, Di-Et Carbonate, Alkene Glycol, 1,6-Alkanediol And 1,1-Alkylenebis[4-Isocyanatocycloalkane].

If you are interested in information that is not included in these tables, you may contact EPA as described in Unit III. to access additional non-CBI information that may be available.

List of Subjects

Environmental protection, Chemicals, Hazardous substances, Imports, Notice of commencement, Premanufacturer, Reporting and recordkeeping requirements, Test marketing exemptions.

Dated: September 9, 2014.
Darryl S. Ballard,
Acting Director, Information Management Division, Office of Pollution Prevention and Toxics.

[FR Doc. 2014-22282 Filed 9-18-14; 8:45 am]

BILLING CODE 6560-50-P